DEPARTMENT OF COMMERCE

International Trade Administration

[A-201-844, A-489-818]

Steel Concrete Reinforcing Bar From Mexico and Turkey: Postponement of Preliminary Determination in the Antidumping Duty Investigations

AGENCY: Enforcement and Compliance, formerly Import Administration, International Trade Administration, Department of Commerce.

DATES: Effective Date: February 4, 2014.

FOR FURTHER INFORMATION CONTACT: Joy Zhang (Mexico) or Jolanta Lawska (Turkey), AD/CVD Operations, Office III, Enforcement and Compliance, U.S. Department of Commerce, 14th Street and Constitution Avenue NW., Washington, DC 20230; telephone: (202) 482-1168, or (202) 482-8362, respectively.

SUPPLEMENTARY INFORMATION:

Postponement of the Preliminary Determination

On September 24, 2013, the Department of Commerce (the Department) initiated antidumping duty investigations on steel concrete reinforcing bar from Mexico and Turkey.¹ The notice of initiation stated that the Department, in accordance with section 733(b)(1)(A) of the Tariff Act of 1930, as amended (the Act), and 19 CFR 351.205(b)(1), would issue its preliminary determination for these investigations, unless postponed, no later than 140 days after the date of the initiation. The original signature date for the preliminary determination was February 11, 2014. Subsequently, as explained in a memorandum from the Assistant Secretary for Enforcement and Compliance, the Department exercised its discretion to toll deadlines for the duration of the closure of the Federal Government from October 1, through October 16, 2013.² Accordingly, all deadlines in these investigations were extended by 16 days. Thus, the preliminary determination of these antidumping duty investigations is currently due no later than February 27, 2014.

¹ See Steel Concrete Reinforcing Bar From Mexico and Turkey: Initiation of Antidumping Duty Investigations, 78 FR 60827 (October 2, 2013).

² See Memorandum for the Record from Paul Piquado, Assistant Secretary for Enforcement and Compliance, “Deadlines Affected by the Shutdown of the Federal Government” (October 18, 2013).

On January 27, 2014, more than 25 days before the scheduled preliminary determination, the Rebar Trade Action Coalition (RTAC) and its individual members (collectively, “Petitioners”),³ pursuant to section 733(c)(1)(A) of the Act and 19 CFR 351.205(b)(2) and (e), made a timely request for a 50-day postponement of the preliminary determination in these investigations.⁴ Petitioners noted in their request that this extension will provide additional time for the Department to review respondents' submissions and to request supplemental information, so that the preliminary determinations will reflect the most accurate results possible.

³ Petitioners are RTAC and its individual members: Byer Steel Group, Inc., Schnitzer Steel Industries d/b/a Cascade Steel Rolling Mills, Inc., Commercial Metals Company, Gerdau Ameristeel U.S. Inc., and Nucor Corporation.

⁴ See Letter from Petitioners to the Secretary of Commerce, “Steel Concrete Reinforcing Bar from Mexico and Turkey—Request to Extend the Antidumping Duty Preliminary Determination,” dated January 27, 2014.

The Department has found no compelling reason to deny the request and, therefore, in accordance with section 733(c)(1)(A) of the Act, the Department is postponing the deadline for the preliminary determination to no later than 206 days after the date on which it initiated these investigations (the original 140-day period, plus a 50-day postponement, and the 16 days tolled for the shutdown of the Federal Government). Therefore, the new deadline for issuing the preliminary determination is now April 18, 2014.

This notice is issued and published pursuant to section 733(c)(2) of the Act.

Dated: January 29, 2014.
Paul Piquado,
Assistant Secretary for Enforcement and Compliance.

[FR Doc. 2014-02290 Filed 2-3-14; 8:45 am]

BILLING CODE 3510-DS-P